DEPARTMENT OF TRANSPORTATION

Pipeline and Hazardous Materials Safety Administration

[Docket No. PHMSA-2023-0078 (Notice No. 2023-11)]

Hazardous Materials: Information Collection Activities

AGENCY: Pipeline and Hazardous Materials Safety Administration (PHMSA), DOT.

ACTION: Notice and request for comments.

SUMMARY: In accordance with the Paperwork Reduction Act of 1995, PHMSA invites comments on two information collections pertaining to hazardous materials transportation for which PHMSA intends to request renewal from the Office of Management and Budget.

DATES: Interested persons are invited to submit comments on or before December 4, 2023.

ADDRESSES: You may submit comments identified by the Docket Number PHMSA-2023-0078 (Notice No. 2023-11) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2023-0078) for this notice at the beginning of the comment. To avoid duplication, please use only one of these four methods. All comments received will be posted without change to the Federal Docket Management System (FDMS) and will include any personal information you provide.

Requests for a copy of an information collection should be directed to Steven Andrews or Nina Vore, Standards and Rulemaking Division, (202) 366-8553, ohmspra@dot.gov, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” PHMSA will treat such marked submissions as confidential under the FOIA, and they will not be placed in the public docket of this notice. Submissions containing CBI should be sent to Steven Andrews or Nina Vore, Standards and Rulemaking Division and addressed to the Pipeline and Hazardous Materials Safety Administration, U.S. Department of Transportation, 1200 New Jersey Avenue SE, Washington, DC 20590-0001 or ohmspra@dot.gov. Any commentary that PHMSA receives which is not specifically designated as CBI will be placed in the public docket for this notice.

FOR FURTHER INFORMATION CONTACT: Steven Andrews or Nina Vore, Standards and Rulemaking Division, (202) 366-8553, ohmspra@dot.gov, Pipeline and Hazardous Materials Safety Administration, U.S. Department of Transportation, 1200 New Jersey Avenue SE, Washington, DC 20590-0001.

SUPPLEMENTARY INFORMATION:

Section 1320.8(d), title 5, Code of Federal Regulations (CFR) requires PHMSA to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval.

PHMSA requests comments on the following information collections:

Title: Hazardous Materials Security Plans.

OMB Control Number: 2137-0612.

Summary: To assure public safety, shippers and carriers must take reasonable measures to plan and implement procedures to prevent unauthorized persons from taking control of, or attacking, hazardous materials shipments. Part 172 of the HMR requires persons who offer or transport certain hazardous materials to develop and implement written plans to enhance the security of hazardous materials shipments. The security plan requirements as prescribed in § 172.800(b) apply to specific types of shipments. Such shipments include but are not limited to: shipments greater than 3,000 kg (6,614 pounds) for solids or 3,000 liters (792 gallons) for certain liquids and gases in a single packaging such as a cargo tank motor vehicle, portable tank, tank car, or other bulk container; any quantity of a Division 1.1, 1.2, or 1.3 material; a large bulk quantity of a Division 2.1 material; or any quantity of a poison-by-inhalation material. A security plan will enable shippers and carriers to reduce the possibility that a hazardous materials shipment will be used as a weapon of opportunity by a terrorist or criminal.

The following is a list of the information collections and burden estimates associated with this OMB Control Number:

Information collection | Annual respondents | Total annual responses | Hours per response | Total annual burden hours
New Security Plan—Large Companies | 30 | 90 | 50 | 4,500
New Security Plan—Small Companies | 170 | 170 | 25 | 4,250
Updating Security Plan—Large Companies | 6,300 | 18,900 | 10 | 189,000
New Security Plan—Small Companies | 35,700 | 35,700 | 5 | 178,499
Compilation of Commodity Data—Class I Railroads | 7 | 7 | 40 | 280
Compilation of Commodity Data—Class II Railroads | 32 | 32 | 40 | 1,280
Compilation of Commodity Data—Class III Railroads | 100 | 100 | 40 | 4,000
Primary Route Analysis—Class I Railroads | 7 | 60 | 80 | 4,800
Primary Route Analysis—Class II Railroads | 32 | 128 | 80 | 10,240
Primary Route Analysis—Class III Railroads | 100 | 200 | 40 | 8,000
Alternate Route Analysis—Class I Railroads | 7 | 60 | 120 | 7,200
Alternate Route Analysis—Class II Railroads | 32 | 96 | 120 | 11,520
Alternate Route Analysis—Class III Railroads | 100 | 50 | 40 | 2,000
Route Selection and Completion of Route Analysis—Class I Railroads | 7 | 7 | 16 | 112
Route Selection and Completion of Route Analysis—Class II Railroads | 32 | 32 | 16 | 512
Route Selection and Completion of Route Analysis—Class III Railroads | 100 | 100 | 8 | 800
Storage, Delays in Transit, and Notification—Class I Railroads | 7 | 7 | 8 | 56
Storage, Delays in Transit, and Notification—Class II Railroads | 32 | 32 | 8 | 256
Storage, Delays in Transit, and Notification—Class III Railroads | 100 | 100 | 4 | 400
Notifying a Consignee in the Event of a Significant Delay—Class I Railroads | 7 | 12 | .50 | 6
Notifying a Consignee in the Event of a Significant Delay—Class II Railroads | 32 | 12 | .50 | 6
Notifying a Consignee in the Event of a Significant Delay—Class III Railroads | 100 | 2 | .50 | 1
Inspection—Large Companies | 100 | 100 | .008 | 1

Affected Public: Shippers and carriers of hazardous materials in commerce.

Annual Reporting and Recordkeeping Burden:

Number of Respondents: 43,134.

Total Annual Responses: 55,997.

Total Annual Burden Hours: 427,719.

Frequency of Collection: On occasion.

Title: Generic Clearance for the Collection of Qualitative Feedback on Agency Service Delivery.

OMB Control Number: 2137-0640.

Summary: The information collection activity will garner qualitative customer and stakeholder feedback in an efficient, timely manner, in accordance with the Department's commitment to improving service delivery. Qualitative feedback is information that provides useful insights on perceptions and opinions, not statistical surveys that yield quantitative results that can be generalized to the population of study. This feedback will provide insight into customer or stakeholder perceptions, opinions, experiences and expectations, as well as an early warning of issues with service, or focus attention on areas where communication, training or changes in operations might improve delivery of products or services. These collections will allow for ongoing, collaborative, and actionable communications between PHMSA and its customers and stakeholders. It will also allow feedback to contribute directly to the improvement of program management. Feedback or information collected under this generic clearance will provide useful information, but it will not yield data that can be generalized to the overall population.

The Department will submit a collection for approval under this generic clearance if it meets the following conditions:

• The collections are voluntary.

• The collections are low-burden for respondents (based on considerations of total burden hours, total number of respondents, or burden-hours per respondent) and are low-cost for both the respondents and the Federal Government.

• The collections are non-controversial and do not raise issues of concern to other Federal agencies.

• Any collection is targeted to the solicitation of opinions from respondents who have experience with the program or may have experience with the program in the near future.

• Personally identifiable information (PII) is collected only to the extent necessary and is not retained.

• Information gathered is intended to be used only internally for general service improvement and program management purposes and is not intended for release outside of the Department (if released, the Department must indicate the qualitative nature of the information).

This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential nonresponse bias, the protocols for data collection, and any testing procedures that were or will be undertaken prior to fielding the study. Depending on the degree of influence the results are likely to have, such collections may still be eligible for submission for other generic mechanisms that are designed to yield quantitative results.

Affected Public: Individuals and households, businesses and organizations, State, local or Tribal governments.

Annual Reporting and Recordkeeping Burden:

Number of Respondents: 6,000.

Total Annual Responses: 6,000.

Total Annual Burden Hours: 3,000.

Frequency of Collection: One-time requirement.

Issued in Washington, DC, on September 28, 2023, under authority delegated in 49 CFR 1.97.

T. Glenn Foster,
Chief, Regulatory Review and Reinvention Branch, Office of Hazardous Materials Safety, Pipeline and Hazardous Materials Safety Administration.

[FR Doc. 2023-21870 Filed 10-2-23; 8:45 am]

BILLING CODE 4910-60-P